NUCLEAR REGULATORY COMMISSION

[NRC-2012-0235]

Tribal Protocol Manual

AGENCY: Nuclear Regulatory Commission.

ACTION: NUREG; issuance.

SUMMARY: The U.S. Nuclear Regulatory Commission (NRC) is issuing NUREG-2173, “Tribal Protocol Manual,” which: Facilitates effective consultations and interactions between the NRC and Native American Tribes related to activities within the scope of the NRC's jurisdiction; explains that Tribes are unique governmental entities and are not extensions of State or local governments; assists NRC management and staff in recognizing these distinctions and creates a more open and productive working relationship with Native American Tribal governments; and supplements the NRC staff's working knowledge by providing Tribal outreach, experience, and practical guidance to NRC personnel who have had limited interactions with Native American Tribes.

DATES: This NUREG is effective on August 24, 2018.

ADDRESSES: Please refer to Docket ID NRC-2012-0235 when contacting the NRC about the availability of information regarding this document. You may obtain publicly-available information related to this document using any of the following methods:

• Federal Rulemaking website: Go to http://www.regulations.gov and search for Docket ID NRC-2012-0235. Address questions about NRC dockets to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. In addition, for the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: James Firth, telephone: 301-415-6628, email: James.Firth@nrc.gov; or Jeffery Lynch, telephone: 301-415-5041, email: Jeffery.Lynch@nrc.gov; U.S. Nuclear Regulatory Commission, Washington, DC 20555-0001. Both are staff of the U.S. Nuclear Regulatory Commission, Washington, DC 20555-0001.

SUPPLEMENTARY INFORMATION:

I. Discussion

On October 12, 2012, the NRC published a notice in the Federal Register requesting comment on both the draft “Tribal Protocol Manual” and the proposed “Tribal Policy Statement” (77 FR 62269). The NRC received six comment letters on the “Tribal Policy Statement” and the “Tribal Protocol Manual.” The commenters included two Tribal governments, two mining associations, one inter-Tribal organization, and a Tribal college. The comments were grouped into seven topical areas: (1) NRC Tribal communication; (2) NRC Tribal consultation; (3) NRC Tribal resources; (4) terminology; (5) NRC map of Tribal reservations near nuclear reactors; (6) Federal-Tribal history; and (7) contemporary Tribal conditions. The NRC's responses to these comments are available in “Tribal Protocol Manual: Guidance for NRC Staff—Comment Responses,” which is cited below.

On January 9, 2017 (82 FR 2402), the NRC issued its “Tribal Policy Statement.” The “Tribal Protocol Manual” has been revised to be consistent with the “Tribal Policy Statement” and to reflect changes made in response to public comments.

In response to public comments and the NRC's work on the “Tribal Policy Statement,” the agency is revising the definition of “consultation.” In the “Tribal Protocol Manual” (p. 16), “consultation” is now defined as “meaningful and timely discussion with Tribal governments on NRC regulatory actions that have substantial direct effects on one or more Indian Tribes and those regulatory actions for which Tribal consultation is required under Federal statute. The NRC's Tribal consultation allows Indian Tribes the opportunity to provide input on regulatory actions with Tribal implications and those where Tribal consultation is required, and is different from the outreach and public comment periods.”

The NRC revised the “Tribal Protocol Manual” to better address the unique relationship between the United States Government and Tribes and how the NRC exercises its trust responsibility. The NRC also made changes to the historical account of the Federal-Tribal relationship; specifically, the “Tribal Protocol Manual” now includes a general discussion that addresses the contributions of Treaties, policy, law, court decisions, and Executive Orders to Federal Indian law.

II. Availability of Documents

The documents identified in the following table are available to interested persons through one or more of the following methods, as indicated.

Document | ADAMS Accession No./ Federal Register Citation
Tribal Protocol Manual Guidance for NRC Staff (July 2018) | ML18214A663
Comment Resolution Table | ML18180A371
Tribal Policy Statement, Issuance | ML16334A483
Tribal Protocol Manual: Guidance for NRC Staff (December 2014) | ML14274A014
Tribal Protocol Manual: Guidance for NRC Staff — Comment Responses | ML14297A280
Executive Order 13175, “Consultation and Coordination with Indian Tribal Governments,” November 9, 2000 | 65 FR 67249
Presidential Memorandum for the Heads Executive Departments and Agencies, “Tribal Consultation,” November 5, 2009 | 74 FR 57881
SECY-09-0180, U.S. Nuclear Regulatory Commission Interaction with Native American Tribes | ML092800263
SRM-M081211, Staff Requirements—Briefing on Uranium Recovery, 9:30 a.m. and 1:30 p.m., Thursday, December 11, 2008, Commissioners' Conference Room, One White Flint North, Rockville, Maryland (Open to Public Attendance) | ML090080206
Staff Requirements—SECY-14-0006—Tribal Consultation Policy Statement And Protocol | ML14240A083
Tribal Protocol Manual: Guidance for NRC Staff (October 2012) | ML12261A423

Dated at Rockville, Maryland, this 20th day of August 2018.
For the Nuclear Regulatory Commission.
Sabrina Atack,
Acting Director, Division of Materials Safety, Security, State, and Tribal Programs, Office of Nuclear Material Safety and Safeguards.

[FR Doc. 2018-18277 Filed 8-23-18; 8:45 am]

BILLING CODE 7590-01-P